DEPARTMENT OF LABOR

Employment and Training Administration

[TA-W-60,317]

General Ribbon Corporation, Currently Known as Clover Technologies Group, Chatsworth, CA; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on November 30, 2006, applicable to workers of General Ribbon Corporation, Chatsworth, California. The notice was published in the Federal Register on December 12, 2006 (71 FR 74564).

At the request of the State agency, the Department reviewed the certification for workers of the subject firm. The workers remanufactured laser toner cartridges.

New information shows that in March 2007, Clover Technologies Group purchased General Ribbon Corporation and is currently known as Clover Technologies Group.

Accordingly, the Department is amending this certification to show that General Ribbon Corporation is currently known as Clover Technologies Group.

The intent of the Department's certification is to include all workers of General Ribbon Corporation currently known as Clover Technologies Group who were adversely affected by increased imports.

The amended notice applicable to TA-W-60,317 is hereby issued as follows:

All workers of General Ribbon Corporation, currently known as Clover Technologies Group, Chatsworth, California, who became totally or partially separated from employment on or after October 25, 2005, through November 30, 2008, are eligible to apply for adjustment assistance under Section 223 of the Trade Act of 1974, and are also eligible to apply for alternative trade adjustment assistance under Section 246 of the Trade Act of 1974.

Signed at Washington, DC, this 14th day of July 2008.
Elliott S. Kushner,
Certifying Officer, Division of Trade Adjustment Assistance.

[FR Doc. E8-16563 Filed 7-18-08; 8:45 am]

BILLING CODE 4510-FN-P